DEPARTMENT OF JUSTICE

Criminal Division; Agency Information Collection Activities: Proposed Collection; Comments Requested

ACTION: Notice of Information Collection Under Review: Extension of Currently Approved Collection; Foreign Agents Registration Act Form (Short-Form Registration Statement) as required by Rule 202(e) of the Act.

The Department of Justice (DOJ), Criminal Division has submitted the following information collection request to the Office of Management and Budget (OMB) for review and approval in accordance with the procedures of the Paperwork Reduction Act of 1995. The proposed information collection is published to obtain comments from the public and affected agencies. This information collection was previously published in the Federal Register on December 1, 2000, allowing for a 60 day comment period.

The purpose of this notice is to allow for an additional 30 days for public comment until March 28, 2001. This process is conducted in accordance with 5 CFR 1320.10. Written comments and/or suggestions regarding the item contained in this notice, especially the estimated public burden and associated response time, should be directed to the Office of Management and Budget, Office of Information and Regulatory Affairs, Attention: Department of Justice Desk Officer, Washington, DC 20530. Comments may also be submitted to Mr. Robert B. Briggs, Department Clearance Officer, United States Department of Justice, Information Management and Security Staff, Justice Management Division, 1331 Pennsylvania Avenue, NW, Suite 1220, Washington, D.C. 20530.

Written comments and suggestions from the public and affected agencies concerning the proposed collection of information are encouraged. Your comments should address one or more of the following four points:

(1) Evaluate whether the proposed collection of information is necessary for the proper performance of the functions of the agency, including whether the information will have practical utility.

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of currently approved information collection.

(2) Title of the Form/Collection: Foreign Agents Registration Act Form (Short-Form Registration Statement) as required by Rule 202(e) of the Act.

(3) Agency form number, if any, and the applicable component of the Department of Justice sponsoring the collection: Form CRM-156. Criminal Division, U.S. Department of Justice.

(4) Affected public who will be asked or required to respond, as well as a brief abstract: Primary: Business or other for-profit, Not-for-profit institutions, and individuals or households. Form is used to register foreign agents as required by 22 U.S.C. 611, et seq.

(5) An estimate of the total number of respondents and the amount of time estimated for an average respondent to respond: 388 respondents at .429 hours per response.

(6) An estimate of the total public burden (in hours) associated with the collection: 166.45 annual burden hours.

Dated: February 20, 2001.
Robert B. Briggs,
Department Clearance Officer, Department of Justice.

[FR Doc. 01-4612 Filed 2-23-01; 8:45 am]

BILLING CODE 4410-14-M